DEPARTMENT OF THE INTERIOR

Fish and Wildlife Service

[FWS-R8-ES-2015-N083; FXES11130800000-154-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before June 15, 2015.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-54716A

Applicant: Christine Harvey, San Diego, California

The applicant requests a permit amendment to take (locate and monitor nests) the least Bell's vireo (Vireo bellii pusillus) in conjunction with survey and population monitoring throughout the range of the species in California for the purpose of enhancing the species' survival.

Permit No. TE-034101

Applicant: Naval Facilities Engineering Command, Southwest, San Diego, California

The applicant requests a permit renewal and amendment to take (harass by survey, capture, handle, measure, attach radio transmitters, conduct radio telemetry, mark by PIT tag, and release) the arroyo toad (arroyo southwestern) (Anaxyrus californicus) in conjunction with surveys, research, and population monitoring activities at Naval Weapons Station Seal Beach Detachment Fallbrook in San Diego County, California, for the purpose of enhancing the species' survival.

Permit No. TE-022230

Applicant: Jeff W. Kidd, Murrieta, California

The applicant requests a permit amendment to take (harass by survey, locate and monitor nests, and perform avian predator management activities) the California least tern (Sternula antillarum browni) (Sterna a. browni) in conjunction with population and breeding studies throughout the range of the species in California for the purpose of enhancing the species' survival.

Permit No. TE-809232

Applicant: BIO-WEST Incorporated, Logan, Utah

The applicant requests a permit amendment to take (capture, mark, tag, measure, and release) the Virgin River chub (Gila robusta seminuda) and woundfin (Plagopterus argentissimus); take (capture, mark, tag, measure, and release or collect) the razorback sucker (Xyrauchen texanus), bonytail chub (Gila elegans), and humpback chub (Gila cypha); take (capture, handle, measure, and release) the Pahranagat roundtail chub (Gila robusta jordani), Pahrump poolfish (Empetrichthys latos), White River springfish (Crenichthys baileyi baileyi), Hiko White River springfish (Crenichthys baileyi grandis), and White River spinedace (Lepidomeda albivallis); take (harass by survey and locate and monitor nests) the southwestern willow flycatcher (Empidonax traillii extimus); and remove/reduce to possession the Nitrophila mohavensis (Amargosa niterwort) in conjunction with survey, research, genetic analysis, and population monitoring activities in Arizona, California, Nevada, and Utah, for the purpose of enhancing the species' survival.

Permit No. TE-118641

Applicant: Jodi McGraw, Corralitos, California

The applicant requests a permit renewal to take (survey by pursuit, live-capture, handle, release, and monitor) the Mount Hermon June beetle (Polyphylla barbata) and take (survey by pursuit, live-capture, handle, release, and monitor) the Zayante band-winged grasshopper (Trimerotropis infantilis) in conjunction with surveys, research, and restoration activities throughout the range of the species for the purpose of enhancing the species' survival.

Permit No. TE-063230

Applicant: Jim Rocks, San Diego, California

The applicant requests a permit to take (harass by survey, capture, handle, release, collect adult vouchers) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi), and take (survey by pursuit) the Quino checkerspot butterfly (Euphydryas editha quino) in conjunction with survey activities in California for the purpose of enhancing the species' survival.

Permit No. TE-27460A

Applicant: Brian Zitt, Santa Ana, California

The applicant requests a permit renewal to take (harass by survey, capture, handle, and release) the tidewater goby (Eucyclogobius newberryi); take (harass by survey, capture, handle, measure, and release) the arroyo toad (arroyo southwestern) (Anaxyrus californicus); and take (harass by survey, capture, handle, and release tadpole stage only) the mountain yellow-legged frog (southern California Distinct Population Segment (DPS)) (Rana muscosa) in conjunction with survey and monitoring activities throughout the range of the species in California for the purpose of enhancing the species' survival.

Permit No. TE-29522A

Applicant: Kenneth Gilliland, Ventura, California

The applicant requests a permit renewal to take (harass by survey, locate and monitor nests, and collect infertile/abandoned eggs) the California least tern (Sternula antillarum browni) (Sterna a. browni), and take (locate and monitor nests, and collect infertile/abandoned eggs) the least Bell's vireo (Vireo bellii pusillus) in conjunction with survey and population monitoring activities in California for the purpose of enhancing the species' survival.

Permit No. TE-157291

Applicant: National Park Service, Pinnacles National Park, Paicines, California

The applicant requests a permit renewal to take (capture, handle, maintain in captivity, attach radio-transmitters and visual wing markers, track, band, take feather samples, draw blood, administer medical testing and medical treatment, release, and supplementally feed in the wild) the California condor (Gymnogyps californianus) in conjunction with captive propagation and population management activities throughout the range of the species in California for the purpose of enhancing the species' survival.

Permit No. TE-835549

Applicant: Charles Black, San Diego, California

The applicant requests a permit to take (harass by survey, capture, handle, release, collect adult vouchers) the San Diego fairy shrimp (Branchinecta sandiegonensis) and Riverside fairy shrimp (Streptocephalus woottoni); and remove/reduce to possession the Eryngium aristulatum var. parishii (San Diego button-celery), Monardella viminea (M. linoides subsp. v.) (willowy monardella), Orcuttia californica (California Orcutt grass), and Pogogyne abramsii (San Diego mesa mint) in conjunction with surveys, restoration, population studies, and seed production activities on Marine Corps Air Station, Miramar, San Diego, California, for the purpose of enhancing the species' survival.

Permit No. TE-036065

Applicant: Korey Klutz, San Marcos, California

The applicant requests a permit renewal to take (survey by pursuit) the Quino checkerspot butterfly (Euphydryas editha quino) in conjunction with survey activities throughout the range of the species in California for the purpose of enhancing the species' survival.

Permit No. TE-053020

Applicant: Andrew Pigniolo, San Diego, California

The applicant requests a permit renewal to take (survey by pursuit) the Quino checkerspot butterfly (Euphydryas editha quino) in conjunction with survey activities in Riverside and San Diego County, California, for the purpose of enhancing the species' survival.

Permit No. TE-35207A

Applicant: Jordan Zylstra, San Jacinto, California

The applicant requests a permit renewal to take (survey by pursuit) the Quino checkerspot butterfly (Euphydryas editha quino) in conjunction with survey activities throughout the range of the species in California for the purpose of enhancing the species' survival.

Permit No. TE-135974

Applicant: Michael Marangio, Richmond, California

The applicant requests a permit amendment to take (harass by survey, capture, handle, and release) the California tiger salamander (Santa Barbara County DPS and Sonoma County DPS) (Ambystoma californiense) in conjunction with survey activities throughout the range of the species in California for the purpose of enhancing the species' survival.

Permit No. TE-135948

Applicant: Natalie Brodie, San Diego, California

The applicant requests a permit renewal to take (survey by pursuit) the Quino checkerspot butterfly (Euphydryas editha quino) in conjunction with survey activities throughout the range of the species in California for the purpose of enhancing the species' survival.

Permit No. TE-61175B

Applicant: Lindsay Willrick, San Diego, California

The applicant requests a permit to take (survey by pursuit) the Quino checkerspot butterfly (Euphydryas editha quino) in conjunction with survey activities throughout the range of the species in California for the purpose of enhancing the species' survival.

Permit No. TE-61177B

Applicant: Matthew, Ricketts, San Francisco, California

The applicant requests a permit renewal to take (harass by survey) the California Ridgway's rail (California clapper r.) (Rallus obsoletus obsoletus) (R. longirostris o.) in conjunction with surveys in Alameda, Contra Costa, Marin, Napa, Santa Clara, San Francisco, San Mateo, Solano, and Sonoma County, California, for the purpose of enhancing the species' survival.

Permit No. TE-134338

Applicant: Brenna Ogg, San Diego, California

The applicant requests a permit renewal and amendment to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (survey by pursuit) the Quino checkerspot butterfly (Euphydryas editha quino) in conjunction with survey activities throughout the range of the species in California for the purpose of enhancing the species' survival.

Permit No. TE-61650B

Applicant: Normandeau Associates Incorporated, Bedford, New Hampshire

The applicant requests a permit to take (harass by survey, capture, handle, and release) the tidewater goby (Eucyclogobius newberryi) in conjunction with survey and monitoring activities throughout the range of the species in California for the purpose of enhancing the species' survival.

Permit No. TE-807078

Applicant: Point Reyes Bird Observatory, Petaluma, California

The applicant requests a permit amendment to take (harass by survey, locate and monitor nests, capture, measure, band, release, and set up, monitor and maintain cameras) the California least tern (Sternula antillarum browni) (Sterna a. browni) in conjunction with survey and monitoring activities throughout the range of the species in California for the purpose of enhancing the species' survival.

Permit No. TE-58760A

Applicant: Jason Yakich, Forest Knolls, California

The applicant requests a permit renewal and amendment to take (harass by survey) the California Ridgway's rail (California clapper r.) (Rallus obsoletus obsoletus) (R. longirostris o.); take (harass by survey, capture, handle, release, and collect adult vouchers) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey, capture, handle, and release) the California tiger salamander (Santa Barbara County DPS and Sonoma County DPS) (Ambystoma californiense) in conjunction with survey activities in California for the purpose of enhancing the species' survival.

Permit No. TE-042952

Applicant: Gregory Ballmer, Riverside, California

The applicant requests a permit renewal to take (survey by pursuit) the Delhi Sands flower-loving fly (Rhaphiomidas terminatus abdominalis) in conjunction with survey activities throughout the range of the species for the purpose of enhancing the species' survival.

Permit No. TE-834492

Applicant: Julie Thomas, Morro Bay, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-839480

Applicant: Richard Zembal, Laguna Hills, California

The applicant requests a permit renewal to take (locate and monitor nests, capture, mark, band, release, and remove brown-headed cowbird (Molothrus ater) eggs and chicks from parasitized nests) the least Bell's vireo (Vireo bellii pusillus); take (harass by survey, locate and monitor nests, and remove brown-headed cowbird (Molothrus ater) eggs and chicks from parasitized nests) the southwestern willow flycatcher (Empidonax traillii extimus); take (harass by survey and locate and monitor nests) the California least tern (Sternula antillarum browni) (Sterna a. browni); take (harass by survey, locate and monitor nests, capture, band, and release) the western snowy plover (Pacific Coast population DPS) (Charadrius nivosus nivosus); take (capture, mark, band, remove from the wild, translocate, and release) the light-footed Ridgway's rail (light-footed clapper r.) (Rallus obsoletus levipes) (R. longirostris l.); and take (capture, handle, and release) the Stephens' kangaroo rat (Dipodomys stephensi) and San Bernardino Merriam's kangaroo rat (Dipodomys merriami parvus) in conjunction with research and population monitoring activities within Imperial, Los Angeles, Orange, Riverside, San Bernardino, San Diego, and Ventura Counties, California, for the purpose of enhancing the species' survival.

Permit No. TE-62464B

Applicant: Lindsay Griffin, Thousand Oaks, California

The applicant requests a permit to take (harass by survey, capture, handle, and release) the tidewater goby (Eucyclogobius newberryi) in conjunction with survey activities throughout the range of the species for the purpose of enhancing the species' survival.

Permit No. TE-62868B

Applicant: The Klamath Tribes, Chiloquin, Oregon

The applicant requests a permit to take (survey, trap, capture, handle, collect, mark (including the use of fin clips, and PIT tags), collect gametes, propagate in situ, translocate/reintroduce) the Lost River sucker (Deltistes luxatus) and shortnose sucker (Chasmistes brevirostris) in conjunction with surveys, propagation, population studies, and research activities throughout the range of each species for the purpose of enhancing the species' survival.

Permit No. TE-816187

Applicant: David Cook, Santa Rosa, California

The applicant requests a permit renewal to take (harass by survey, capture, mark, release, collect research individuals, tissue samples, and voucher specimens, and conduct formal training) the California tiger salamander (Santa Barbara County DPS and Sonoma County DPS) (Ambystoma californiense) in conjunction with population studies, research, and formal training activities throughout the range of the species in California for the purpose of enhancing the species' survival.

Permit No. TE-006112

Applicant: Gretchen Flohr, Hayward, California

The applicant requests a permit amendment to take (harass by survey) the California tiger salamander (Santa Barbara County DPS and Sonoma County DPS) (Ambystoma californiense) in conjunction with population studies and research throughout the range of the species in California for the purpose of enhancing the species' survival.

Permit No. TE-839211

Applicant: Marnie McKernan, Redlands, California

The applicant requests a permit renewal to take (harass by survey, capture, handle, and release) the San Bernardino Merriam's kangaroo rat (Dipodomys merriami parvus) in conjunction with survey activities throughout the range of the species for the purpose of enhancing the species' survival.

Permit No. TE-810768

Applicant: Paul Galvin, Irvine, California

The applicant requests a permit renewal to take (locate and monitor nests, and remove brown-headed cowbird (Molothrus ater) eggs and chicks from parasitized nests) the least Bell's vireo (Vireo bellii pusillus) in conjunction with population monitoring activities in California, and take (harass by survey, locate and monitor nests, remove brown-headed cowbird eggs and chicks from parasitized nests, capture, band, color-band, and release) the southwestern willow flycatcher (Empidonax traillii extimus) in conjunction with population monitoring activities in California, Nevada, and Arizona for the purpose of enhancing the species' survival.

Permit No. TE-63359B

Applicant: Jennifer Radtkey, Oakland, California

The applicant requests a permit to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (survey by pursuit) the Quino checkerspot butterfly (Euphydryas editha quino) in conjunction with survey activities throughout the range of the species in California for the purpose of enhancing the species' survival.

Permit No. TE-780566

Applicant: Ruben Ramirez, Oceanside, California

The applicant requests a permit amendment to take (harass by survey, capture, handle, measure, skin swab for chytrid sampling, collect tissue for skeletochronology, tag (insert passive integrated transponder (PIT)), and release) the arroyo toad (arroyo southwestern) (Anaxyrus californicus) in conjunction with population studies and research activities on Marine Corps Air Station Camp Pendleton in California for the purpose of enhancing the species' survival.

Permit No. TE-63371B

Applicant: Rheanna Neidinger, California

The applicant requests a permit to take (harass by survey and locate and monitor nests) the southwestern willow flycatcher (Empidonax traillii extimus) in conjunction with survey and population monitoring activities throughout the range of the species in California for the purpose of enhancing the species' survival.

Permit No. TE-28317A

Applicant: David Simi, San Jose, California

The applicant requests a permit renewal to take (harass by survey, capture, handle, and release) the California tiger salamander (Santa Barbara County DPS and Sonoma County DPS) (Ambystoma californiense) in conjunction with survey activities throughout the range of the species in California for the purpose of enhancing the species' survival.

Permit No. TE-363422B

Applicant: U.S. Forest Service, Las Vegas, Nevada

The applicant requests a permit to take (survey by pursuit) the Mount Charleston blue butterfly (Plebejus shasta charlestonensis) in conjunction with survey activities within the Spring Mountains National Recreation Area in Nevada for the purpose of enhancing the species' survival.

Permit No. TE-045153

Applicant: Dustin Janeke, San Diego, California

The applicant requests a permit amendment to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-63440B

Applicant: Daniel Thompson, Las Vegas, Nevada

The applicant requests a permit to take (survey by pursuit, capture, handle, release, collect senescent adults and hatched eggs, and collect tissue samples) the Mount Charleston blue butterfly (Plebejus shasta charlestonensis) in conjunction with survey and research activities within the Spring Mountains National Recreation Area in Nevada for the purpose of enhancing the species' survival.

Permit No. TE-61720B

Applicant: Kelli Camara, Capitola, California

The applicant requests a permit to take (harass by survey, capture, handle, measure, swabbing for chytrid sampling, collect tissue for genetics (toe and tail clip and swabbing), mark, collect voucher specimens and release) the Santa Cruz long-toed salamander (Ambystoma macrodactylum croceum) in conjunction with population studies and research activities in Santa Cruz and Monterey Counties, California, for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Darrin Thome,
Acting Regional Director, Pacific Southwest Region, Sacramento, California.

[FR Doc. 2015-11640 Filed 5-13-15; 8:45 am]

BILLING CODE 4310-55-P